DEPARTMENT OF HEALTH AND HUMAN SERVICES

Agency for Healthcare Research and Quality

Meeting of the National Advisory Council for Healthcare Research and Quality

AGENCY: Agency for Healthcare Research and Quality (AHRQ), HHS.

ACTION: Notice of public meeting.

SUMMARY: This notice announces a meeting of the National Advisory Council for Healthcare Research and Quality.

DATES: The meeting will be held on two days: Friday, June 28, 2024, and Saturday, June 29, 2024.

ADDRESSES: The meeting will be held in-person at the Hilton Baltimore Inner Harbor, 401 W Pratt St, Baltimore, MD 21201. Seating is limited at this location; however, this meeting will also be broadcast virtually. If you are interested in attending in person, please register at https://cma.ahrq.gov/na. A confirmation will be sent based on availability.

FOR FURTHER INFORMATION CONTACT: Jaime Zimmerman, Designated Federal Official, at the Agency for Healthcare Research and Quality, 5600 Fishers Lane, Mail Stop 06E37A, Rockville, Maryland, 20857, (301) 427-1456. For press-related information, please contact Bruce Seeman at (301) 427-1998 or Bruce.Seeman@AHRQ.hhs.gov.

Closed captioning will be provided during the meeting. If another reasonable accommodation for a disability is needed, please contact the Health Resources and Services Administration (HRSA), Office of Disabilities, Diversity, and Inclusion, (301) 443-5636, RA-Request@hrsa.gov, no later than Friday, June 14, 2024. The agenda, roster, and minutes will be available from Jenny Griffith, Committee Management Officer, Agency for Healthcare Research and Quality, 5600 Fishers Lane, Rockville, Maryland, 20857. Jenny Griffith's phone number is (240) 446-6799.

SUPPLEMENTARY INFORMATION:

I. Purpose

In accordance with the Federal Advisory Committee Act, this notice announces a meeting of the National Advisory Council for Healthcare Research and Quality (the Council). 5 U.S.C. 1009. The Council is authorized by section 941 of the Public Health Service Act, 42 U.S.C. 299c. In accordance with its statutory mandate, the Council is to advise the Secretary of the Department of Health and Human Services and the Director of AHRQ on matters related to AHRQ's conduct of its mission including providing guidance on (A) priorities for health care research, (B) the field of health care research including training needs and information dissemination on health care quality and (C) the role of the Agency in light of private sector activity and opportunities for public private partnerships. The Council is composed of members of the public, appointed by the Secretary, and Federal ex-officio members specified in the authorizing legislation.

II. Agenda

On Friday, June 28, NAC members will meet to conduct preparatory work prior to convening the Council meeting at 1:45 p.m., with the call to order by the Council Chair, an introduction of NAC members, and approval of previous Council summary notes. The NAC members will then receive an update from the AHRQ Director. The agenda will also include a conversation on the vision for Health Services Research, as well as an update on the Age-Friendly Healthcare Systems Strategic Plan, to be followed by a discussion about opportunities for modernizing the measurement of consumer experience. On Saturday, June 29, NAC members will convene the Council meeting at 9:00 a.m. with welcome and call to order. The NAC members will then discuss priority populations and maternity health, as well as listen to an update on AHRQ's Patient-Centered Outcomes Research Trust Fund (PCORTF) Extension Program. For information regarding how to access the meeting as well as other meeting details, including information on how to make a public comment, please go to https://www.ahrq.gov/news/events/nac/. The final agenda will be available on the AHRQ website no later than Thursday, June 14, 2024.

Dated: May 3, 2024.
Mamatha Pancholi,
Deputy Director.

[FR Doc. 2024-11200 Filed 5-21-24; 8:45 am]

BILLING CODE P